DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Native American Tribal Insignia Database.

Form Number(s): None.

Agency Approval Number: 0651-00XX.

Type of Request: New Collection.

Burden: 74 hours annually.

Number of Respondents: 400 responses per year.

Avg. Hours Per Response: The USPTO estimates that it will take the public approximately 10 minutes to gather information, prepare, and submit a request to record an official insignia for a federally-recognized Native American tribe and 12 minutes to gather information, prepare, and submit a request to record an official insignia for a state-recognized Native American tribe.

Needs and Uses: This collection of information supports the establishment of a comprehensive database containing the official insignia of federally- and state-recognized Native American tribes. The database is being created following the USPTO's completion of a study and report to the Judiciary Committees of the United States Senate and House of Representatives concerning the protection of the official insignia of recognized tribes. The report recommended the creation of a database containing the official insignia of all federally- and state-recognized Native American tribes, and the Senate Appropriations Committee directed the USPTO to comply with this recommendation. The public uses this collection to request entry of the official insignia of their recognized Native American tribe into the USPTO database of official tribal insignia. The USPTO uses the information collected from the public to determine whether a trademark for which registration is sought may be similar to an official insignia of a Native American tribe, as evidence of what a Native American tribe considers to be its official insignia and address for correspondence, and to maintain a public search library.

Affected Public: Tribal governments.

Frequency: On occasion.

Respondent's Obligation: Required to obtain or retain benefits.

OMB Desk Officer: David Rostker, (202) 395-3897.

Copies of the above information collection proposal can be obtained by calling or writing Susan K. Brown, Records Officer, Office of Data Management, Data Administration Division, USPTO, Suite 310, 2231 Crystal Drive, Washington, DC, 20231, by phone at (703) 308-7400, or by e-mail at susan.brown@uspto.gov.

Written comments and recommendations for the proposed information collection should be sent on or before December 14, 2001 to David Rostker, OMB Desk Officer, Room 10202, New Executive Office Building, 725 17th Street, NW., Washington, DC 20503.

Dated: November 7, 2001.
Susan K. Brown,
Records Officer, USPTO, Office of Data Management, Data Administration Division.

[FR Doc. 01-28516 Filed 11-13-01; 8:45 am]

BILLING CODE 3510-16-P